DEPARTMENT OF THE INTERIOR

National Park Service

[NPS-NCR-NAMA-22698; PPNCNAMAN0, PPMPSPD1Y.YM00000 (177)]

Agency Information Collection Activities: OMB Control Number 1024-0021; National Capital Region Application for Public Gathering

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on May 31, 2017. We may not conduct or sponsor and a person is not required to respond to a collection of information unless it displays a currently valid OMB control number. However, under OMB regulations, we may continue to conduct or sponsor this information collection while it is pending at OMB.

DATES: You must submit comments on or before June 26, 2017.

ADDRESSES: Send your comments and suggestions on this information collection to the Desk Officer for the Department of the Interior at OMB-OIRA at (202) 395-5806 (fax) or OIRA_Submission@omb.eop.gov (email). Please provide a copy of your comments to Tim Goddard, Information Collection Clearance Officer, National Park Service, 12201 Sunrise Valley Drive, MS-242, Reston, VA 20192 (mail); or tim_goddard@nps.gov (email). Please include “1024-0021” in the subject line of your comments. You may review the ICR online at http://www.reginfo.gov. Follow the instructions to review Department of the Interior collections under review by OMB.

FOR FURTHER INFORMATION CONTACT: To request additional information about this IC, contact Robbin Owen, National Capital Region, National Park Service, 900 Ohio Drive SW., Washington, DC 20024 (mail) or at 202-245-4715 (telephone); or Martin A. Torres via email at Martin_Torres@nps.gov.

SUPPLEMENTARY INFORMATION:

I. Abstract

The Division of Permits Management of the National Mall and Memorial Parks issues permits for public gatherings (special events and demonstrations) held on NPS property within the National Capital Region. Regulations at 36 CFR 7.96(g) govern permits for public gatherings and implement statutory mandates to provide for resource protection and public enjoyment. These regulations reflect the special demands on many of the urban National Capital Region parks as sites for demonstrations and special events. A special event is any presentation, program, or display that is recreational, entertaining, or celebratory in nature; e.g., sports events, pageants, celebrations, historical reenactments, regattas, entertainments, exhibitions, parades, fairs, festivals and similar events. The term “demonstration” includes demonstrations, picketing, speechmaking, marching, holding vigils or religious services and all other like forms of conduct that involve the communication or expression of views or grievances.

Those who want to hold a special event or demonstration must complete NPS Form 10-941, “Application for a Permit to Conduct a Demonstration or Special Event in Park Areas” (which also includes a “Waiver of Numerical Limitations on Demonstrations for White House Sidewalk and/or Lafayette Park”). NPS Form 10-941 collects information on:

• Sponsor (name, address, telephone and fax numbers, email address, Web site address).

• Type of permit requested.

• Logistics (dates/times, location, purpose, plans, and equipment for proposed activity).

• Potential civil disobedience and traffic control issues.

• Circumstances that may warrant park rangers being assigned to the event.

II. Data

OMB Control Number: 1024-0021.

Title: National Capital Region Application for Public Gathering, 36 CFR 7.96(g).

Expiration Date: May 31, 2017.

Service Form Number(s): NPS Form 10-941, “Application for a Permit to Conduct a Demonstration or Special Event in Park Areas”.

Type of Request: Extension of a currently approved collection.

Description of Respondents: Individuals, organizations, businesses, and State, local, or tribal governments.

Respondent's Obligation: Required to obtain a benefit.

Frequency of Collection: On occasion.

Activity | Total annual responses | Completion time per response (hours) | Total annual burden hours*
Form 10-941, “Application for a Permit to Conduct a Demonstration or Special Event in Park Areas”
Individuals | 1,442 | .5 | 721
Private Sector | 218 | .5 | 109
Government | 225 | .5 | 113
Site Plan
Individuals | 1,269 | 1 | 1,269
Private Sector | 100 | 1 | 100
Government | 29 | 1 | 29
Sign Plan
Individuals | 1,269 | .5 | 635
Private Sector | 100 | .5 | 50
Government | 29 | .5 | 15
Risk Management Plan
Individuals | 1,269 | 1.5 | 1,904
Private Sector | 100 | 1.5 | 150
Government | 29 | 1.5 | 44
Administrative Documents
Individuals | 1,269 | .75 | 952
Private Sector | 100 | .75 | 75
Government | 29 | .75 | 22
Totals | 7,477 |  | 6,188
* Rounded.

Estimated Annual Non-hour Cost Burden: The application fee of $120.00 is submitted with each special event application to recover the cost of processing the application. There is no application fee for permits to cover first amendment activities. Of the 1,885 applications (Forms 10-941) received annually, approximately 1,269 are for special events. Therefore, the estimated annual non-hour cost burden associated with this information collection is $152,280 ($120 x 1,269).

III. Comments

On September 8, 2016, we published in the Federal Register (81 FR 62172) a Notice of our intent to request that OMB renew approval for this information collection. In that Notice, we solicited comments for 60 days, ending November 7, 2016. We received no comments in response to that Notice. We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Authority: The authorities for this action are the National Park Service Organic Act of 1916 (54 U.S.C. 100101 et seq.; P.L. 113-287) and the Paperwork Reduction Act of 1995 (44 U.S.C. 3501 et seq.).

Timothy Goddard,
Information Collection Clearance Officer, National Park Service.

[FR Doc. 2017-10831 Filed 5-25-17; 8:45 am]

BILLING CODE 4312-52-P